NATIONAL SCIENCE FOUNDATION

Notice of Intent To Seek Approval To Renew an Information Collection

AGENCY: National Science Foundation.

ACTION: Notice and request for comments.

SUMMARY: NSF is announcing plans to request renewed clearance of this collection. In accordance with the requirements of the Paperwork Reduction Act of 1995, we are providing opportunity for public comment on this action. After obtaining and considering public comment, NSF will prepare the submission requesting OMB clearance of this collection for no longer than 3 years.

DATES: Written comments on this notice must be received by September 28, 2018, to be assured consideration. Comments received after that date will be considered to the extent practicable. Send comments to address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

Title of Collection: Research Performance Progress Report.

OMB Approval Number: 3145-0221.

Expiration Date of Approval: September 30, 2018.

Type of Request: Intent to seek approval to extend an information collection for three years.

Use of the Information: NSF developed the RPPR as a service within Research.gov. The service provides a common portal for the research community to manage and submit annual project reports to the National Science Foundation (NSF) and to partner agencies. This service replaced NSF's annual and interim project reporting capabilities which resided in the FastLane System.

Complete information about NSF's implementation of the Research Performance Progress Report (RPPR) may be found at the following website: http://www.nsf.gov/bfa/dias/policy/rppr/index.jsp.

Burden on the Public: The Foundation estimates that an average of 6.6 hours is expended for each report submitted. An estimated 120,000 reports are expected during the course of one year for a total of 30,000 public burden hours annually.

Dated: July 25, 2018.
Suzanne H. Plimpton,
Reports Clearance Officer, National Science Foundation.

[FR Doc. 2018-16187 Filed 7-27-18; 8:45 am]

BILLING CODE 7555-01-P